DEPARTMENT OF TRANSPORTATION

Federal Highway Administration

Notice of Final Federal Agency Actions on Proposed Bridge and Approach Roadways in Nevada and Arizona

AGENCY: Federal Highway Administration (FHWA), DOT.

ACTION: Notice of Limitation on Claims for Judicial Review of Actions by FHWA, U.S. Fish and Wildlife Service (USFWS), and Other Federal Agencies.

SUMMARY: This notice announces actions taken by the FHWA, USFWS, and other Federal agencies that are final within the meaning of 23 U.S.C. 139(I)(1). The actions relate to the proposed Laughlin-Bullhead City Bridge project in Laughlin, Clark County, Nevada; and in Bullhead City, Mohave County, Arizona. Those actions grant licenses, permits, and approvals for the project.

DATES: By this notice, the FHWA is advising the public of final agency actions subject to 23 U.S.C. 139(l)(1). A claim seeking judicial review of the Federal agency actions on the bridge and roadway project will be barred unless the claim is filed on or before February 27, 2012. If the Federal law that authorizes judicial review of a claim provides a time period less than 180 days for filing such claim, then that shorter time period still applies.

FOR FURTHER INFORMATION CONTACT: For FHWA: Mr. Abdelmoez Abdalla, Environmental Program Manager, Federal Highway Administration, 705 North Plaza Street, Carson City, Nevada 89701-0602; telephone: (775) 687-1231; e-mail: abdelmoez.abdalla@dot.gov. The FHWA Nevada Division Office's regular business hours are 7:30 a.m. to 4 p.m. (Pacific Standard Time). For the Nevada Department of Transportation (NDOT): Mr. Steve M. Cooke, P.E., Chief, Environmental Services Division, Nevada Department of Transportation, 1263 South Stewart Street, Carson City, Nevada 89712; telephone: (775) 888-7013; e-mail: scooke@dot.state.nv.us. The NDOT office's regular business hours are 8 a.m. to 5 p.m. (Pacific Standard Time). For USFWS: Mr. Michael Burroughs, U.S. Fish and Wildlife Service, 4701 North Torrey Pines Drive, Las Vegas, Nevada 89130; telephone: (702) 515-5230; e-mail: michael_burroughs@fws.gov. The USFWS office's regular business hours are 7:30 a.m. to 4 p.m. (Pacific Standard Time).

SUPPLEMENTARY INFORMATION: Notice is hereby given that the FHWA, USFWS, and other Federal agencies have taken final agency actions subject to 23 U.S.C. 139(l)(1) by issuing licenses, permits, and approvals for the following bridge and roadway project in Clark County in the State of Nevada and in Mohave County in the State of Arizona. The proposed project would involve the construction of a new bridge (two general-purpose lanes in each direction and a multi-use pathway) over the Colorado River. In addition to the new bridge, the proposed project includes construction of a new intersection at Needles Highway and a four-lane approach roadway (two general-purpose lanes in each direction and a multi-use pathway) from Needles Highway in Laughlin, Clark County, Nevada (the west end) to the extension of Bullhead Parkway west of State Route (SR) 95 in Bullhead City, Mohave County, Arizona (the east end). The proposed work would cover a distance of approximately 4.38 miles. The federal project reference number is DE-PLH-0003 (108). The actions taken by the Federal agencies, and the laws under which such actions were taken, are described in the Environmental Assessment (EA) for the Laughlin-Bullhead City Bridge Project that was approved on October 21, 2010, the Design Recommendation Report (DRR) that was approved by the Nevada department of Transportation on May 18, 2011, the FHWA's Finding of No Significant Impact (FONSI) issued on July 13, 2011, and in other documents in the FHWA or NDOT project records. The EA, DRR, FONSI, and other project records are available by contacting FHWA or NDOT Environmental Service Division at the addresses provided above. The EA, the FONSI, and other project related information can also be viewed at the project Web site at http://www.rtcsnv.com/mpo/projects/laughlin/. USFWS also issued its biological opinion (File Nos. 84320-2010-F-0423 and 84320-2011-I-0027) for the project's possible adverse effects on the desert tortoise (Gopherus agassizii) on November 5, 2010. The USFWS biological opinion is available by contacting the USWFWS at the address provided above.

This notice applies to all Federal agency decisions as of the issuance date of this notice and all laws under which such actions were taken, including but not limited to:

1. General: National Environmental Policy Act (NEPA) [42 U.S.C. 4321-4347]; Federal-Aid Highway Act (FAHA) [23 U.S.C. 109 and 23 U.S.C. 128].

2. Air: Clean Air Act [42 U.S.C. 7401-7671(q)].

3. Land: Section 4(f) of the Department of Transportation Act of 1966 [23 U.S.C. 138 and 49 U.S.C. 303] and Section 6(f) of the Land and Water Conservation Act as amended [16 U.S.C 4601].

4. Historic and Cultural Resources: Section 106 of the National Historic Preservation Act of 1966, as amended [16 U.S.C. 470f]; Archeological and Historic Preservation Act [16 U.S.C. 469-469(c)].

5. Wildlife: Endangered Species Act [16 U.S.C. 1531-1544 and Section 1536]; Fish and Wildlife Coordination Act [16 U.S.C. 661-667 (d)]; Migratory Bird Treaty Act [16 U.S.C. 703-712].

6. Executive Orders: E.O. 11990, Protection of Wetlands; E.O. 11988, Floodplain Management; E.O. 12898, Federal Actions to Address Environmental Justice in Minority Populations and Low Income Populations; E.O. 11593, Protection and Enhancement of Cultural Resources; E.O. 13287, Preserve America; E.O. 11514, Protection and Enhancement of Environmental Quality; E. O. 13112, Invasive Species.

(Catalog of Federal Domestic Assistance Program Number 20.205, Highway Planning and Construction. The regulations implementing Executive Order 12372 regarding intergovernmental consultation on Federal programs and activities apply to this program.)

Authority: 23 U.S.C. 139(l)(1)

Issued on: August 22, 2011.
Susan Klekar,
Division Administrator, Carson City, Nevada.

[FR Doc. 2011-22285 Filed 8-30-11; 8:45 am]

BILLING CODE 4910-RY-P